DEPARTMENT OF THE INTERIOR

Fish and Wildlife Service

[FWS-R5-ES-2010-N216; 50120-1113-0000-C2]

Endangered and Threatened Wildlife and Plants; Assisting States, Federal Agencies, and Tribes in Managing White-Nose Syndrome in Bats; Draft National Plan

AGENCY: Fish and Wildlife Service, Interior.

ACTION: Notice of document availability for review and comment.

SUMMARY: The U.S. Fish and Wildlife Service (FWS) announces the availability for public review of a draft national plan to assist States, Federal agencies, and tribes in managing white-nose syndrome in bats. This draft plan was prepared by representatives of the U.S. Department of Agriculture's Animal and Plant Health Inspection Service and Forest Service; U.S. Department of Defense's Army Corps of Engineers; U.S. Department of the Interior's Bureau of Land Management, National Park Service, and FWS; St. Regis Mohawk Tribe; Kentucky Department of Fish and Wildlife Resources; Missouri Department of Conservation; New York State Department of Environmental Conservation; Pennsylvania Game Commission; Vermont Department of Fish and Wildlife; and Virginia Department of Game and Inland Fisheries. The FWS is requesting review and comment on the draft plan from all interested parties.

DATES: Comments on the draft plan must be received on or before November 29, 2010.

ADDRESSES: An electronic copy of the draft plan is available at http://www.fws.gov/WhiteNoseSyndrome/. The document is also available by request from the U.S. Fish and Wildlife Service, New York Field Office, 3817 Luker Road, Cortland, NY 13045 (phone: 607-753-9334). Requests for copies of the draft plan and written comments regarding this plan should be addressed to Dr. Jeremy Coleman, National White-Nose Syndrome Coordinator, at the New York Field Office. In addition, FWS is accepting electronic comments on the draft plan at the following e-mail address: WhiteNoseBats@fws.gov.

FOR FURTHER INFORMATION CONTACT: Dr. Jeremy Coleman, National White-Nose Syndrome Coordinator, at the New York Field Office. See ADDRESSES above.

SUPPLEMENTARY INFORMATION: White-nose syndrome (WNS) is a fungal disease responsible for unprecedented mortality in hibernating bats in the northeastern United States. It has spread rapidly since its discovery in January 2007, and poses a potentially catastrophic threat to hibernating bats throughout North America, including several species listed as endangered or threatened under the Endangered Species Act (ESA). Listed bats include the Indiana bat (Myotis sodalis), Virginia big-eared bat (Corynorhinus townsendii virginianus), Ozark big-eared bat (Corynorhinus townsendii ingens), and gray bat (Myotis grisescens).

The mobility of bats, the potential for human-assisted transmission, and the severe consequences of WNS make it imperative that a national effort be mounted to avoid irreversible losses to bat populations and associated ecological impacts throughout North America. This effort requires collaboration among State, Federal, and tribal wildlife management agencies with stewardship responsibilities for bat populations and among nongovernmental organizations and the scientific community. Collaboration at the international level is also needed, because the threat of WNS crosses international borders.

In June of 2008, an effort to formalize a coordinated approach for addressing WNS was initiated among Federal and State wildlife management agencies. More recently, a multiagency WNS National Plan Writing Team was formed to prepare a draft national plan that details the elements that are critical to the investigation and management of WNS, identifies key actions to address stated goals, and outlines the roles of Federal and State agencies and other entities.

The WNS response strategy outlined in the draft national plan includes general practices, as well as seven program elements. These elements and their associated goals are:

1. Communications: Provide target audiences with relevant information about WNS as a wildlife health issue and the efforts taking place to control and manage WNS, including contact information for key team members and agency personnel.

2. Scientific and Technical Information Dissemination: Create a WNS database that can both be used by individual agencies and act as a central data repository.

3. Diagnostics: Develop diagnostic and sample quality standards, establish laboratory testing capacity, and report test results to resource management agencies.

4. Disease Management: Provide management recommendations to slow the spread of WNS, reduce morbidity and mortality rates to sustainable levels, and limit adverse impacts of management actions.

5. Research Coordination: Conduct a critical review of previous and ongoing research projects; investigate disease etiology, WNS pathogenesis and epidemiology, interaction of disease and host ecology, and human dimensions and ecological consequences of WNS; and disseminate research findings.

6. Disease Surveillance: Create a nationwide early detection program, coordinate sample collection and submission, and support epidemiological investigations.

7. Conservation and Recovery of Affected Species: Develop rapid assessment population monitoring techniques, establish criteria for prioritizing conservation activities, and determine best practices for maintaining and recovering populations.

The national plan will be followed by an implementation plan that will identify sub-actions, the agencies responsible for implementation of each action/sub-action, and cost estimates. Also, the national plan will help individual agencies develop response plans tailored to their WNS-related needs and circumstances.

Request for Public Comments: We request written comments on the draft national plan. All comments received by the date specified in DATES will be considered in preparing a final plan.

Before including your address, phone number, e-mail address, or other personal identifying information in your comment, you should be aware that your entire comment—including your personal identifying information—may be made publicly available at any time. While you can ask us in your comment to withhold your personal identifying information from public review, the FWS cannot guarantee that we will be able to do so.

Authority: As a number of federally listed bat species are threatened by WNS, the FWS is issuing this notice primarily under the authority of the ESA of 1973 (16 U.S.C. 1531). This plan is intended to guide recovery of listed bats. It was developed so that it can be easily adopted or incorporated into existing or future recovery plans.

Dated: September 27, 2010.
Kyla J. Hastie,
Acting Regional Director, Region 5, U.S. Fish and Wildlife Service.

[FR Doc. 2010-27340 Filed 10-27-10; 8:45 am]

BILLING CODE 4310-55-P